DEPARTMENT OF COMMERCE

International Trade Administration

[A-533-848]

Notice of Final Determination of Sales at Less Than Fair Value: Commodity Matchbooks from India

AGENCY: Import Administration, International Trade Administration, Department of Commerce

SUMMARY: We determine that imports of commodity matchbooks are being, or are likely to be, sold in the United States at less than fair value (LTFV), as provided in section 735 of the Tariff Act of 1930, as amended (the Act). The estimated margins of sales at LTFV are shown in the “Final Determination” section of this notice.

EFFECTIVE DATE: October 22, 2009.

FOR FURTHER INFORMATION CONTACT: Holly Phelps or Elizabeth Eastwood, AD/CVD Operations, Office 2, Import Administration, International Trade Administration, U.S. Department of Commerce, 14th Street and Constitution Avenue, NW, Washington, DC 20230; telephone: (202) 482-0656 and (202) 482-3874, respectively.

SUPPLEMENTARY INFORMATION:

Background

On June 2, 2009, the Department published in the Federal Register the preliminary determination of sales at LTFV in the antidumping duty investigation of commodity matchbooks from India. See Commodity Matchbooks from India: Notice of Preliminary Determination of Sales at Less Than Fair Value and Postponement of Final Determination, 74 FR 26366 (June 2, 2009) (Preliminary Determination).

In June 2009, we verified the questionnaire responses of the sole respondent in this case, Triveni Safety Matches Pvt. Ltd. (Triveni), in accordance with section 782(i) of the Act. Although we provided interested parties an opportunity to comment on the Preliminary Determination and the Department's verification findings, no interested party submitted a case brief.

Period of Investigation

The period of investigation is October 1, 2007, through September 30, 2008. This period corresponds to the four most recent fiscal quarters prior to the month of the filing of the petition.

Scope of Investigation

The scope of this investigation covers commodity matchbooks, also known as commodity book matches, paper matches or booklet matches.¹ Commodity matchbooks typically, but do not necessarily, consist of twenty match stems which are usually made from paperboard or similar material tipped with a match head composed of any chemical formula. The match stems may be stitched, stapled, or otherwise fastened into a matchbook cover of any material, on which a striking strip composed of any chemical formula has been applied to assist in the ignition process.

¹ Such commodity matchbooks are also referred to as “for resale” because they always enter into retail channels, meaning businesses that sell a general variety of tangible merchandise, e.g., convenience stores, supermarkets, dollar stores, drug stores and mass merchandisers.

Commodity matchbooks included in the scope of this investigation may or may not contain printing. For example, they may have no printing other than the identification of the manufacturer or importer. Commodity matchbooks may also be printed with a generic message such as “Thank You” or a generic image such as the American Flag, with store brands (e.g., Kroger, 7-Eleven, Shurfine or Giant); product brands for national or regional advertisers such as cigarettes or alcoholic beverages; or with corporate brands for national or regional distributors (e.g., Penley Corp. or Diamond Brands). They all enter retail distribution channels. Regardless of the materials used for the stems of the matches and regardless of the way the match stems are fastened to the matchbook cover, all commodity matchbooks are included in the scope of this investigation.

All matchbooks, including commodity matchbooks, typically comply with the United States Consumer Product Safety Commission (CPSC) Safety Standard for Matchbooks, codified at 16 CFR § 1202.1 et seq.

The scope of this investigation excludes promotional matchbooks, often referred to as “not for resale,” or “specialty advertising” matchbooks, as they do not enter into retail channels and are sold to businesses that provide hospitality, dining, drinking or entertainment services to their customers, and are given away by these businesses as promotional items. Such promotional matchbooks are distinguished by the physical characteristic of having the name and/or logo of a bar, restaurant, resort, hotel, club, café/coffee shop, grill, pub, eatery, lounge, casino, barbecue or individual establishment printed prominently on the matchbook cover. Promotional matchbook cover printing also typically includes the address and the phone number of the business or establishment being promoted.² Also excluded are all other matches that are not fastened into a matchbook cover such as wooden matches, stick matches, box matches, kitchen matches, pocket matches, penny matches, household matches, strike-anywhere matches (aka “SAW” matches), strike-on-box matches (aka “SOB” matches), fireplace matches, barbeque/grill matches, fire starters, and wax matches.

² The gross distinctions between commodity matchbooks and promotional matchbooks may be summarized as follows: (1) if it has no printing, or is printed with a generic message such as “Thank You” or a generic image such as the American Flag, or printed with national or regional store brands or corporate brands, it is commodity; (2) if it has printing, and the printing includes the name of a bar, restaurant, resort, hotel, club, café/coffee shop, grill, pub, eatery, lounge, casino, barbecue, or individual establishment prominently displayed on the matchbook cover, it is promotional.

The merchandise subject to this investigation is properly classified under subheading 3605.00.0060 of the Harmonized Tariff Schedule of the United States (HTSUS). Subject merchandise may also enter under subheading 3605.00.0030 of the HTSUS. Although the HTSUS subheadings are provided for convenience and customs purposes, the written description of the merchandise under investigation is dispositive.

Changes Since the Preliminary Determination

Based on our findings at verification, we have made certain changes to the margin calculations for Triveni. For a discussion of these changes, see the October 15, 2009, memorandum from Holly Phelps, Analyst, to the File, entitled, “Calculations Performed for Triveni Safety Matches Pvt. Ltd. for the Final Determination in the 2007-2008 Antidumping Duty Investigation of Commodity Matchbooks from India.” See also the October 15, 2009, memorandum from LaVonne Clark, Senior Accountant, to Neal Halper, Director, Office of Accounting, entitled, “Constructed Value Calculation Adjustments for the Final Determination - Triveni Safety Matches Pvt. Ltd.”

Verification

As provided in section 782(i) of the Act, we verified the sales and cost information submitted by Triveni for use in our final determination. We used standard verification procedures including an examination of relevant accounting and production records, and original source documents provided by Triveni. Our sales and cost verification results are outlined in separate verification reports. See the June 24, 2009, memorandum from Holly Phelps, Analyst, to James P. Maeder, Director, Office 2, entitled, “Verification of the Sales Response of Triveni Safety Matches Pvt. Ltd. (Triveni) in the Less-Than-Fair-Value Investigation on Commodity Matchbooks from India.” See also the July 16, 2009, memorandum from LaVonne Clark, Senior Accountant, to Neal Halper, Director, Office of Accounting, entitled, “Verification of the Cost Response of Triveni Safety Matches Pvt., Ltd. in the Antidumping Duty Investigation of Commodity Matchbooks from India.”

Continuation of Suspension of Liquidation

Pursuant to 735(c)(1)(B) of the Act, we will instruct U.S. Customs and Border Protection (CBP) to continue to suspend liquidation of all entries of subject merchandise from India, entered, or withdrawn from warehouse, for consumption on or after June 2, 2009, the date of publication of the preliminary determination in the Federal Register. CBP shall require a cash deposit or the posting of a bond equal to the estimated amount by which the normal value exceeds the U.S. price as shown below, adjusted for export subsidies found in the final determination of the companion countervailing duty investigation of this merchandise. Specifically, consistent with our practice, where the product under investigation is also subject to a concurrent countervailing duty investigation, we instruct CBP to require a cash deposit or posting of a bond equal to the amount by which the normal value exceeds the export price or constructed export price, as indicated below, less the amount of the countervailing duty determined to constitute an export subsidy. See, e.g., Notice of Final Determination of Sales at Less Than Fair Value: Carbazole Violet Pigment 23 From India, 69 FR 67306, 67307 (Nov. 17, 2004).

Accordingly, for cash deposit purposes, we are subtracting from the applicable cash deposit rate that portion of the rate attributable to the export subsidies found in the affirmative countervailing duty determination for each respondent (i.e., 9.88 percent for Triveni, and 9.88 percent for “All Others”). After the adjustment for the cash deposit rates attributed to export subsidies, the resulting cash deposit rates will be 56.19 percent for Triveni and 56.19 percent for “All Others.” These instructions suspending liquidation will remain in effect until further notice.

Final Determination Margins

The weighted-average dumping margins are as follows:

Producer/Exporter | Weighted-Average Margin (percent)
Triveni Safety Matches Pvt. Ltd. | 66.07
All Others | 66.07

“All Others” Rate

Section 735(c)(5)(A) of the Act provides that the estimated “All Others” rate shall be an amount equal to the weighted average of the estimated weighted-average dumping margins established for exporters and producers individually investigated, excluding any zero or de minimis margins, and any margins determined entirely under section 776 of the Act. Triveni is the only respondent in this investigation. Therefore, for purposes of determining the “All Others” rate and pursuant to section 735(c)(5)(A) of the Act, we are using the weighted-average dumping margin calculated for Triveni, as referenced above. See, e.g., Notice of Final Determination of Sales at Less Than Fair Value: Stainless Steel Sheet and Strip in Coils From Italy, 64 FR 30750, 30755 (June 8, 1999); and Coated Free Sheet Paper from Indonesia: Notice of Preliminary Determination of Sales at Less Than Fair Value and Postponement of Final Determination, 72 FR 30753, 30757 (June 4, 2007), unchanged in Notice of Final Determination of Sales at Less Than Fair Value: Coated Free Sheet Paper from Indonesia, 72 FR 60636 (Oct. 25, 2007).

Disclosure

We will disclose the calculations performed within five days of the date of publication of this notice to parties in this proceeding in accordance with 19 CFR 351.224(b).

ITC Notification

In accordance with section 735(d) of the Act, we have notified the International Trade Commission (ITC) of our final determination. As our final determination is affirmative, the ITC will determine within 45 days whether imports of the subject merchandise are causing material injury, or threat of material injury, to an industry in the United States. If the ITC determines that material injury or threat of injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Return or Destruction of Proprietary Information

This notice will serve as the only reminder to parties subject to administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections 735(d) and 777(i) of the Act.

Dated: October 15, 2009.
Ronald K. Lorentzen,
Acting Assistant Secretary for Import Administration.

[FR Doc. E9-25446 Filed 10-21-09; 8:45 am]

BILLING CODE 3510-DS-S